OFFICE OF THE UNITED STATES TRADE REPRESENTATIVE

Generalized System of Preferences (GSP): Notice Announcing the Initiation of the 2010 Annual GSP Product Review and Deadlines for Filing Petitions

AGENCY: Office of the United States Trade Representative.

ACTION: Notice and solicitation for public petitions.

SUMMARY: This notice announces that the Office of the United States Trade Representative (USTR) will receive petitions to modify the list of products that are eligible for duty-free treatment under the Generalized System of Preferences (GSP) program. This notice determines that the deadline for submission of product petitions, other than those requesting competitive need limitation (CNL) waivers, is 5 p.m., Tuesday, August 3, 2010. The deadline for submission of petitions requesting CNL waivers is 5 p.m., Tuesday, November 16, 2010. The lists of product petitions accepted for review will be announced in the Federal Register at a later date.

FOR FURTHER INFORMATION CONTACT: Tameka Cooper, GSP Program, Office of the United States Trade Representative, 1724 F Street, NW., Room 601, Washington, DC 20508. The telephone number is (202) 395-6971, the fax number is (202) 395-2961, and the e-mail address is Tameka_Cooper@ustr.eop.gov.

Public versions of the product and CNL waiver petitions submitted for the August 3, 2010, deadline will be available in docket USTR-2010-0017 at http://www.regulations.gov. Public versions of all documents relating to this review will be made available for public viewing at http://www.regulations.gov upon completion of processing and no later than approximately two weeks after the relevant due date.

I. 2010 Annual GSP Review

The GSP regulations (15 CFR part 2007) provide the timetable for conducting an annual review, unless otherwise specified by Federal Register notice. Notice is hereby given that, in order to be considered in the 2010 Annual GSP Product Review, all petitions to modify the list of articles eligible for duty-free treatment under GSP must be received by the GSP Subcommittee of the Trade Policy Staff Committee no later than 5 p.m. on Tuesday, August 3, 2010. Petitions requesting CNL waivers must be received by the GSP Subcommittee of the Trade Policy Staff Committee no later than 5 p.m. on Tuesday, November 16, 2010, in order to be considered in the 2010 Annual Review. Petitions submitted after the respective deadlines will not be considered for review. The deadline for receipt of petitions for the Country Practices Eligibility Review and related public hearing date will be announced in the Federal Register at a later date.

GSP Product Review Petitions

Interested parties, including foreign governments, may submit petitions to: (1) Designate additional articles as eligible for duty-free treatment under GSP, including to designate articles as eligible for GSP only for countries designated as least-developed beneficiary developing countries, or only for countries designated as beneficiary sub-Saharan African countries under the African Growth and Opportunity Act (AGOA); (2) withdraw, suspend or limit the application of duty-free treatment accorded under the GSP with respect to any article, either for all beneficiary developing countries, least-developed beneficiary developing countries or beneficiary sub-Saharan African countries, or for any of these countries individually; (3) waive the “competitive need limitations” for individual beneficiary developing countries with respect to specific GSP-eligible articles (these limits do not apply to either least-developed beneficiary developing countries or AGOA beneficiary sub-Saharan African countries); and (4) otherwise modify GSP coverage.

Petitions requesting CNL waivers for GSP-eligible articles from beneficiary developing countries that exceed the CNLs in 2010 must be filed in the 2010 Annual Review. In order to allow petitioners an opportunity to review additional 2010 U.S. import statistics, these petitions may be filed after Tuesday, August 3, 2010, but must be received on or before the Tuesday, November 16, 2010 deadline described above in order to be considered in the 2010 Annual Review. Public versions of these petitions will be made available for public inspection at http://www.regulations.gov after the November 16, 2010, deadline.

II. Public Comments

Requirements for Submissions

All submissions for the GSP Product Review must conform to the GSP regulations set forth at 15 CFR part 2007, except as modified below. These regulations are available on the USTR Web site at http://www.ustr.gov/trade-topics/trade-development/preference-programs/generalized-system-preference-gsp/gsp-program-inf.

As specified in 15 CFR 2007.1, all product petitions must include a detailed description of the product and the 8-digit subheading of the Harmonized Tariff Schedule of the United States (HTSUS) under which the product is classified. Additional information requirements for product petitions are also specified in 15 CFR 2007.1. Submissions that do not provide the information required by section 2007.1 of the GSP regulations will not be accepted for review, except upon a detailed showing in the submission that the petitioner made a good faith effort to obtain the information required. Any person or party making a submission is strongly advised to review the GSP regulations. An outline of the information required in product petitions is included in the U.S. Generalized System of Preferences Guidebook, available at: http://www.ustr.gov/trade-topics/trade-development/preference-programs/generalized-system-preference-gsp/gsp-program-inf.

To ensure their timely and expeditious receipt and consideration, product petitions provided in response to this notice, with the exception of business confidential submissions, must be submitted online at http://www.regulations.gov, docket number USTR-2010-0017. Hand-delivered submissions will not be accepted. Submissions must be submitted in English to the Chairman of the GSP Subcommittee, Trade Policy Staff Committee, by the applicable deadlines set forth in this notice.

To make a submission using http://www.regulations.gov, enter docket number USTR-2010-0017 on the home page and click “go.” The site will list all documents associated with this docket. Find a reference to this notice by selecting “Notice” under “Document Type” on the left side of the search results page, and click on the link entitled “Send a Comment or Submission.” The http://www.regulations.gov website offers the option of providing comments by filling in a “General Comments” field or by attaching a document. Submissions must be in English, with the total submission not to exceed 30 single-spaced standard letter-size pages in 12-point type, including attachments. Any data attachments to the submission should be included in the same file as the submission itself, and not as separate files.

Given the detailed nature of the information sought by the GSP Subcommittee, it is expected that most comments and submissions will be provided in an attached document. When attaching a document, type: (1) The eight-digit HTSUS subheading number, and (2) “See attached” in the “General Comments” field on the online submission form, and indicate on the attachment that the document is a “Product Review Petition” for [HTSUS Subheading Number], [Product Name], and, if pertinent, [Country].

Petitions submitted in response to this notice must include on the first page (if provided in an attachment, or at the beginning of the submission, if not provided in an attachment), the following text (in bold and underlined): (1) “2010 GSP Annual Review”; (2) the eight-digit HTSUS subheading number in which the product is classified (3) the requested action; and (4) if applicable, the beneficiary developing country.

Each submitter will receive a submission tracking number upon completion of the submissions procedure at http://www.regulations.gov. The tracking number will be the submitter's confirmation that the submission was received, and it should be kept for the submitter's records. USTR is not able to provide technical assistance for the website. Documents not submitted in accordance with these instructions may not be considered in this review. If unable to provide submissions as requested, please contact the GSP Program to arrange for an alternative method of transmission.

III. Business Confidential Comments

A person requesting that information contained in a comment submitted by that person be treated as confidential business information must certify that such information is business confidential and would not customarily be released to the public by the submitter. Confidential business information must be clearly designated as such, the submission must be marked “BUSINESS CONFIDENTIAL” at the top and bottom of the cover page and each succeeding page, and the submission should indicate, via brackets, the specific information that is confidential. Additionally, “Business Confidential” must be included in the “Type Comment & Upload File” field. Anyone submitting a comment containing business confidential information must also submit as a separate submission a non-confidential version of the confidential submission, indicating where confidential information has been redacted. The non-confidential version will be placed in the docket and open to public inspection.

IV. Public Viewing of Review Submissions

Submissions in response to this notice, except for information granted “business confidential” status under 15 CFR 2003.6, will be available for public viewing pursuant to 15 CFR 2007.6 at http://www.regulations.gov upon completion of processing and no later than approximately two weeks after the relevant due date. Petitions submitted by the August 3, 2010 deadline may be viewed by entering the docket number USTR-2010-0017 in the search field at: http://www.regulations.gov.

Seth Vaughn,
Director, GSP Program; Chairman, GSP Subcommittee of the Trade Policy Staff Committee; Office of the U.S. Trade Representative.

[FR Doc. 2010-17221 Filed 7-14-10; 8:45 am]

BILLING CODE P